AGENCY FOR INTERNATIONAL DEVELOPMENT

Agency Information Collection Activities; Submission to the Office of Management and Budget for Review and Approval; Comment Request; Certification of Identity Form for the Freedom of Information Privacy Act Requests

AGENCY: U.S. Agency for International Development.

ACTION: Notice of information collection renewal.

SUMMARY: U.S. Agency for International Development (USAID), as part of its continuing effort to reduce paperwork and respondent burden, invites the general public and other Federal agencies to take this opportunity to comment on continuing information collections, as required by the Paperwork Reduction Act of 1995, Public Law 104-13. Comments are requested concerning (a) Whether the continuing collections of information are necessary for the proper performance of the functions of the agency, including whether the information shall have practical utility; (b) the accuracy of the burden estimates; (c) ways to enhance the quality, utility, and clarity of the information collected; and (d) ways to minimize the burden of the collection of the information on the respondents, including the use of automated collection techniques or other forms of information technology.

DATES: All comments should be submitted within 60 calendar days from the date of this publication.

FOR FURTHER INFORMATION CONTACT: Sylvia Joyner, Bureau for Management, Office of Management Services, Information and Records Division, U.S. Agency for International Development, Washington, DC 20523-2701; tel. 202-712-5007 or via email sjoyner@usaid.gov.

ADDRESSES: Send comments via email to foia@usaid.gov or by regular mail to United States Agency for International Development, Bureau for Management, Office of Management Services, Information and Records Division, Ronald Reagan Building, Room 2.07 C, 1300 Pennsylvania Avenue NW., Washington, DC 20523-2701; tel. 202-712-0960.

SUPPLEMENTARY INFORMATION:

OMB Number: OMB 201312-0412-001.

Form Number: AID Form 507-1.

Title: Certification of Identity Form.

Type of Review: Renewal and form name change for Information Collections.

Purpose

The purpose of this collection is to enable the U.S. Agency for International Development to locate applicable records and to respond to requests made under the Freedom of Information Act and the Privacy Act of 1974. Information includes sufficient personally identifiable information and/or source documents as applicable. Failure to provide the required information may result in no action being taken on the request. Authority to collect this information is contained in 5 U.S.C. 552, 5 U.S.C. 552a, and 22 CFR 212-Subpart M.

Annual Reporting Burden

Respondents: 600.

Total Annual Response: 600.

Estimated Total Annual Burden Hours: 9,000.

Dated: August 11, 2017.
Lynn P. Winston,
Division Chief, Bureau for Management, Office of Management Services, Information and Records Division.

[FR Doc. 2017-17583 Filed 8-18-17; 8:45 am]

BILLING CODE P